ENVIRONMENTAL PROTECTION AGENCY

[EPA-HQ-OAR-2006-0971; FRL-9468-5]

Agency Information Collection Activities; Submission to OMB for Review and Approval; Comment Request; National Volatile Organic Compound Emission Standards for Aerosol Coatings (Renewal)

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before October 21, 2011.

ADDRESSES: Submit your comments, referencing Docket ID No. EPA-HQ-OAR-2006-0971 to (1) EPA online using http://www.regulations.gov (our preferred method), by e-mail to a-and-r-Docket@epa.gov, or by mail to EPA Docket Center, Environmental Protection Agency, Air and Radiation Docket and Information Center (Mail Code 28221T), 1200 Pennsylvania Avenue, NW., Washington, DC 20460, and (2) OMB by mail to: Office of Information and Regulatory Affairs, Office of Management and Budget (OMB), Attention Desk Officer for EPA, 725 17th Street, NW., Washington, DC 20503.

FOR FURTHER INFORMATION CONTACT: Sharon Nizich, Office of Air and Radiation, Office of Air Quality Planning and Standards, Mail Code D243-04, Research Triangle Park, North Carolina 27711; telephone number: (919) 541-2825; fax number: (919) 541-5450; e-mail address: Nizich.sharon@epa.gov.

SUPPLEMENTARY INFORMATION: The EPA has submitted the following ICR to OMB for review and approval according to the procedures prescribed in 5 CFR 1320.12. On May 2, 2011, (76 FR 24476), EPA sought comments on this ICR pursuant to 5 CFR 1320.8(d). EPA received no comments. Any comments on this ICR should be submitted to the EPA and the OMB within 30 days of this notice.

EPA has established a public docket for this ICR under Docket ID No. EPA-HQ-OAR-2006-0971, which is available for online viewing at http://www.regulations.gov, or in person viewing at the Air and Radiation Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air and Radiation Docket is 202-566-1742.

Use the EPA's electronic docket and comment system at http://www.regulations.gov, to submit or view public comments, access the index listing of the contents of the docket, and to access those documents in the docket that are available electronically. Once in the system, select “docket search,” then key in the docket ID number identified above. Please note that the EPA's policy is that public comments, whether submitted electronically or in paper, will be made available for public viewing at http://www.regulations.gov as the EPA receives them and without change, unless the comment contains copyrighted material, confidential business information (CBI), or other information whose public disclosure is restricted by statute. For further information about the electronic docket, go to http://www.regulations.gov.

Title: National Volatile Organic Compound Emission Standards for Aerosol Coatings (Renewal)

ICR numbers: EPA ICR No 2289.02, OMB Control No. 2060-0617.

ICR Status: This ICR is scheduled to expire on September 30, 2011. Under the OMB regulations, the Agency may continue to conduct or sponsor the collection of information while this submission is pending at the OMB. An Agency may not conduct or sponsor, and a person is not required to respond to, a collection of information, unless it displays a currently valid OMB control number. The OMB control numbers for the EPA's regulations in title 40 of the CFR, after appearing in the Federal Register when approved, are listed in 40 CFR part 9, are displayed either by publication in the Federal Register or by other appropriate means, such as on the related collection instrument or form, if applicable. The display of the OMB control numbers in certain EPA regulations is consolidated in 40 CFR part 9.

Abstract: EPA is required, under section 183(e) of the Clean Air Act, to regulate volatile organic compounds (VOC) emissions from the use of consumer and commercial products. Pursuant to section 183(e)(3), EPA published a list of consumer and commercial products and a schedule for their regulation (60 FR 15264). Aerosol coatings were included on the list, and the standards for such coatings are codified at 40 CFR part 59, subpart E. The reports required under the standards enable EPA to identify coating formulations manufactured, imported or distributed in the United States, and to determine the product-weighted reactivity. The ICR addresses the burden for activities conducted in 3 year increments after promulgation of the national VOC emission standards for aerosol coatings. The regulated entities read instructions to determine how they were affected by the rule. New and existing regulated entities submit an initial notification. Regulated entities are required to submit notifications of changes in the products or company information and to maintain records. In addition, regulated entities are required to submit triennial reports of formulation data and VOC usage.

Burden Statement: The annual public reporting and recordkeeping burden for this collection of information is estimated to average 133 hours per response over the course of the 3 year reporting period. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: manufacturers, distributors, and importers of aerosol coatings.

Estimated Number of Respondents: 64.

Frequency of Response: Annually, triennially.

Estimated Total Average Hour Burden: 12,265.

Estimated Total Annual Cost: $1,033,626 in labor costs. There are no capital or O&M costs.

Changes in the Estimates: There is an increase of 143 hours in the total estimated burden currently identified in the OMB Inventory of Approved ICR Burdens. Year 1 and 2 burden estimates include an initial number of respondents that will be required to perform recordkeeping and reporting activities, and assumes 1 additional initial and supplemental reports will be required to be completed due to new aerosol coating product formulations being introduced into the market, or changes in existing aerosol coatings formulations. Beginning in Year 3, triennial reports will be submitted, increasing the burden for those years where a report is due.

Dated: September 15, 2011.
John Moses,
Director, Collection Strategies Division.

[FR Doc. 2011-24286 Filed 9-20-11; 8:45 am]

BILLING CODE 6560-50-P